DEPARTMENT OF THE INTERIOR

Bureau of Land Management

[19X.LLID930000.L11700000.DF0000.LXSGPL000000.241A.4500132602]

Notice of Availability of the Final Programmatic Environmental Impact Statement for Fuel Breaks in the Great Basin; Idaho, Washington, Oregon, California, Nevada and Utah

AGENCY: Bureau of Land Management, Interior.

ACTION: Notice of availability.

SUMMARY: In accordance with the National Environmental Policy Act of 1969, as amended, the Bureau of Land Management (BLM) has prepared a Final Programmatic Environmental Impact Statement (EIS) for Fuel Breaks in the Great Basin and by this notice is announcing its availability.

DATES: The BLM will not issue a final decision on the proposal for a minimum of 30 days after the date that the Environmental Protection Agency publishes its Notice of Availability (NOA) in the Federal Register.

ADDRESSES: Copies of the Final Programmatic EIS for Fuel Breaks in the Great Basin are available for public inspection during regular business hours at 1387 South Vinnell Way, Boise ID 83709. Interested persons may also review the Final Programmatic EIS online at: https://go.usa.gov/xnQcG. Additional copies can be made available at the California, Nevada, Oregon/Washington and Utah BLM State Offices upon request.

FOR FURTHER INFORMATION CONTACT: Ammon Wilhelm, telephone 208-373-3824; address BLM Idaho State Office, 1387 South Vinnell Way, Boise ID 83709; email awilhelm@blm.gov Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: Strategically placed fuel breaks in the Great Basin region would improve firefighter safety and expand opportunities to catch rapidly moving fires, potentially reducing fire size. Fuel breaks should provide greater protection of human life and property, sagebrush communities, and habitat restoration investments. Reducing fire size helps to reduce the expansion of invasive species, such as cheatgrass and medusahead. Fuel breaks are needed due to the increased size and frequency of wildfires throughout the western United States in recent years. From 2009 through 2018 over 13.5 million acres of BLM-administered lands burned within the project area, impacting healthy rangelands, sagebrush communities, and the general productivity of the lands. Larger and more frequent wildfires result in increased risk for injuries and fatalities among wildland firefighters, destruction of private property, degradation and loss of rangelands, loss of recreational opportunities, and habitat loss for a variety of species, including conversion of native habitats to invasive annual grasses. Conversion of rangeland habitats to invasive annual grasslands further impedes rangeland health and productivity by slowing or preventing the recovery of sagebrush ecosystems.

This programmatic environmental impact statement (EIS) evaluates the Bureau of Land Management (BLM) proposal to create and maintain a system of fuel breaks in the Great Basin region. The project area, covering nearly 224 million acres, includes portions of California, Idaho, Nevada, Oregon, Utah, and Washington. The fuel breaks would be placed along a subset of available linear features, such as roads and rights-of-way on BLM-administered lands within sagebrush communities; these potential treatment areas cover approximately 38 million acres within the project area boundary. The preferred alternative (Alternative D) analyzes a full suite of manual, chemical and mechanical treatments, including prescribed fire, seeding, and targeted grazing, to construct and maintain up to 11,000 miles of fuel breaks, potentially removing or altering vegetation on approximately 667,000 acres and protecting approximately 38 million acres of the sagebrush ecosystem. Fuel break types include green strips (areas planted with low-statured, fire-resistant vegetation), brown strips (areas where all vegetation is removed), and mowed fuel breaks (reduced vegetation height).

The NOA for the Draft Programmatic EIS published on June 21, 2019, initiating a 45-day public comment period. During July 2019, the BLM hosted 12 public comment meetings throughout the six-state project area. Agencies, organizations, and interested parties provided comments on the draft Programmatic EIS via mail, email, and at the public meetings. The BLM received 907 comment form letters and 138 unique comment letters. Comments on the Draft Programmatic EIS received from the public and internal BLM review were considered and incorporated as appropriate into the Final Programmatic EIS. Public comments resulted in the addition of clarifying text, but did not significantly change the alternatives or analysis.

Authority: 40 CFR 1506.6, 40 CFR 1506.10.

John F. Ruhs,
Idaho State Director, Bureau of Land Management.

[FR Doc. 2020-03163 Filed 2-14-20; 8:45 am]

BILLING CODE 4310-GG-P